ENVIRONMENTAL PROTECTION AGENCY

[ER-FRL-9037-6]

Environmental Impact Statements; Notice of Availability

Responsible Agency: Office of Federal Activities, General Information (202) 564-7156 or http://www2.epa.gov/nepa.

Weekly receipt of Environmental Impact Statements

Filed 02/05/2018 Through 02/09/2018

Pursuant to 40 CFR 1506.9.

Notice

Section 309(a) of the Clean Air Act requires that EPA make public its comments on EISs issued by other Federal agencies. EPA's comment letters on EISs are available at: http://cdxnodengn.epa.gov/cdx-nepa-public/action/eis/search.

EIS No. 20180017, Final Supplement, FERC, FL, Southeast Market Pipelines Project, Review Period Ends: 03/19/2018, Contact: John Peconom 202-502-6352.

EIS No. 20180018, Final, USFS, MT, Tenmile—South Helena Project, Review Period Ends: 03/19/2018, Contact: Allen Byrd 406-495-3903.

EIS No. 20180019, Draft, USFS, ID, Lolo Insect & Disease Project, Comment Period Ends: 04/02/2018, Contact: Sara Daugherty 208-926-6404.

EIS No. 20180020, Draft, FERC, OK, Midcontinent Supply Header Interstate Pipeline Project, Comment Period Ends: 04/02/2018, Contact: Elaine Baum 202-502-6467.

Dated: February 12, 2018.
Kelly Knight,
Director, NEPA Compliance Division, Office of Federal Activities.

[FR Doc. 2018-03182 Filed 2-15-18; 8:45 am]

BILLING CODE 6560-50-P